NUCLEAR REGULATORY COMMISSION

[Docket No. 040-09022]

Notice of License Termination and Release of the SC Holdings, Inc. Site in Bay City, MI for Unrestricted Use

AGENCY: Nuclear Regulatory Commission.

ACTION: Notice of license termination and site release for unrestricted use.

FOR FURTHER INFORMATION CONTACT: David W. Nelson, Materials Decommissioning Section, Division of Waste Management and Environmental Protection, NRC, Washington, DC 20555; telephone: (301) 415-6626; fax: (301) 415-5397; or e-mail at: dwn@nrc.gov.

SUPPLEMENTARY INFORMATION:

I. Introduction

Pursuant to 10 CFR part 20 subpart E, the U.S. Nuclear Regulatory Commission (NRC) is providing notice that it has terminated license SUC-1565 for the SC Holdings, Inc., and has released its Bay City, Michigan site for unrestricted use. The Licensee's requests for an amendment to authorize decommissioning of its Bay City, Michigan site were previously noticed in the Federal Register on March 2, 2006.

In a letter dated December 5, 2006, SC Holdings, Inc. provided final radiological status surveys to demonstrate that the site met the license termination criteria in 10 CFR part 20 subpart E. NRC staff conducted numerous inspections and confirmatory surveys including the collection of samples and independent measurements of on-site soils and building surfaces.

The NRC staff evaluated SC Holdings, Inc. requests and reviewed the results of the final radiological surveys. Based on those reviews, the staff determined that the site met the unrestricted release criteria in 10 CFR part 20 subpart E. The staff prepared a Safety Evaluation Report (SER) (ADAMS ML070430246) to support its termination of the SC Holdings, Inc. Bay City license.

II. Further Information

In accordance with 10 CFR part 2.390 of the NRC's “Rules of Practice,” details with respect to this action, including the SER, are available electronically at the NRC's Electronic Reading Room at http://www.nrc.gov/reading-rm/adams.html. From this site, you can access the NRC's Agencywide Document Access and Management System (ADAMS), which provides text and image files of NRC's public documents. The ADAMS accession number for the termination letter with enclosed SER, titled “Release of the SC Holdings, Inc., Bay City, Michigan, and Termination of License (License No. SUC-1565)” is ML070430246. If you do not have access to ADAMS or if there are problems in accessing a document located in ADAMS, contact the NRC Public Document Room (PDR) Reference staff at 1-800-397-4209, 301-415-4737, or by e-mail to pdr@nrc.gov.

This document may also be viewed electronically on the public computers located at the NRC's PDR, O-1-F21, One White Flint North, 11555 Rockville Pike, Rockville, MD 20852. The PDR reproduction contractor will copy documents for a fee.

Dated at NRC, Rockville, MD, this day of June 1, 2007.
For the Nuclear Regulatory Commission.
Keith I. McConnell,
Deputy Director, Decommissioning and Uranium Recovery, Licensing Directorate, Division of Waste Management and Environmental Protection, Office of Federal and State Materials and Environmental Management Programs.

[FR Doc. E7-11710 Filed 6-15-07; 8:45 am]

BILLING CODE 7590-01-P